DEPARTMENT OF HEALTH AND HUMAN SERVICES

Centers for Disease Control and Prevention

[30Day-07-06BM]

Agency Forms Undergoing Paperwork; Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to: omb@cdc.gov. Send written comments to CDC Desk Officer, Office of Management and Budget, Washington, DC or by fax to (202) 395-6974.

Notice of Correction

Title of Project

Randomized Controlled Trial of Routine Screening for Intimate Partner Violence—New—National Center for Injury Prevention and Control (NCIPC), Centers for Disease Control and Prevention (CDC).

Description of Correction

A 30-day Federal Register Notice was published on June 25, 2007 (Vol. 72, No. 121, pp. 34691-34692) describing proposed activities with total estimated annualized burden of 717.7 hours. The annualized total burden hour estimate is correct, however, due to a clerical oversight, the table of Estimated Annualized Burden Hours contained non-annualized figures for the Number of Respondents (i.e., project totals). The corrected table appears below. The total estimated annualized burden hours are 717.7.

Estimated Annualized Burden Hours
Type of respondents | Form name | Number of respondents | Number of responses per respondent | Average burden per response (in hours)
Women Seeking Health Care Services | Eligibility Script for Pretest | 70 | 1 | 1/60
| Baseline Questionnaire for Pretest | 65 | 1 | 15/60
| Follow-up Questionnaire Pretest | 59 | 1 | 12/60
| Eligibility Script for Main Study | 1,533 | 1 | 1/60
| Baseline Questionnaire for Main Study | 1,227 | 1 | 17/60
| Follow-up Questionnaire Main Study | 860 | 1 | 22/60

Dated: July 9, 2007.
Maryam I. Daneshvar,
Acting Reports Clearance Officer, Centers for Disease Control and Prevention.

[FR Doc. E7-13730 Filed 7-13-07; 8:45 am]

BILLING CODE 4163-18-P